NATIONAL AERONAUTICS AND SPACE ADMINISTRATION

[Notice 25-029]

Performance Review Board, Senior Executive Service (SES)

AGENCY: National Aeronautics and Space Administration (NASA).

ACTION: Notice of membership of SES Performance Review Board.

SUMMARY: The Civil Service Reform Act of 1978, Public Law 95-454 (Section 405) requires that appointments of individual members to the Performance Review Board (PRB) be published in the Federal Register.

The performance review function for the SES in NASA is being performed by the NASA PRB. The following individuals are serving on the Board:

Performance Review Board

Chairperson, Associate Administrator

Deputy Chief of Staff

Deputy Associate Administrator

Chief Human Capital Officer

Chief of Safety and Mission Assurance

Director, Ames Research Center

Nanette Smith,
Federal Register Liaison Officer.

[FR Doc. 2025-16074 Filed 8-21-25; 8:45 am]

BILLING CODE 7510-13-P